DEPARTMENT OF COMMERCE

National Oceanic and Atmospheric Administration

[I.D. 061501A]

Marine Mammals; File No. 1000-1617

AGENCY: National Marine Fisheries Service (NMFS), National Oceanic and Atmospheric Administration (NOAA), Commerce.

ACTION: Issuance of permit.

SUMMARY: Notice is hereby given that Whitlow W.L. Au, University of Hawaii, Hawaii Institute of Marine Biology, Marine Mammal Research Program, PO Box 1106, Kailua, Hawaii 96734, has been issued a permit to take several species of small cetaceans for purposes of scientific research.

DATES: Written or telefaxed comments must be received on or before July 27, 2001.

ADDRESSES: The permit and related documents are available for review upon written request or by appointment in the following office(s):

Permits and Documentation Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018;

Protected Species Coordinator, Pacific Area Office, NMFS, 1601 Kapiolani Blvd., Room 1110, Honolulu, HI 96814-4700; phone (808)973-2935; fax (808) 973-2941.

FOR FURTHER INFORMATION CONTACT: Lynne Barre or Trevor Spradlin, (301) 713-2289.

SUPPLEMENTARY INFORMATION: On April 12, 2001, notice was published in the Federal Register ( 66. FR 18904) that a request for a scientific research permit to take several species of small cetaceans around Hawaii, California and on the high seas had been submitted by the above-named individual. The requested permit has been issued under the authority of the Marine Mammal Protection Act of 1972, as amended (16 U.S.C. 1361 et seq.), and the Regulations Governing the Taking and Importing of Marine Mammals (50 CFR part 216).

Dated: June 22, 2001.
Ann D. Terbush,
Chief, Permits and Documentation Division, Office of Protected Resources, National Marine Fisheries Service.

[FR Doc. 01-16174 Filed 6-26-01; 8:45 am]

BILLING CODE 3510-22-S